DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) allow the proposed information collection project: “Medical Expenditure Panel Survey—Medical Provider Component (MEPS-MPC) for 2003”. In accordance with the Paperwork Reduction Act of 1995, Pub. L. 104-13 (44 U.S.C. 3506(c)(2)(A)), AHRQ invites the public to comment on this proposed information collection.

This proposed information collection was previously published in the Federal Register on October 15, 2003 and allowed 60 days for public comment. No public comments were received. The purpose of this notice is to allow an additional 30 days for public comment.

DATES: Comments on this notice must be received by January 16, 2004.

ADDRESSES: Written comments should be submitted to: Allison Eydt, Human Resources and Housing Branch, Office of Information and Regulatory Affairs, OMB, New Executive Office Building, Room 10235, Washington, DC 20503.

FOR FURTHER INFORMATION CONTACT: Cynthia D. McMichael, AHRQ, Reports Clearance Officer, (301) 427-1651.

SUPPLEMENTARY INFORMATION:

Proposed Project

“Medical Expenditure Panel Survey—Medical Provider Component (MEPS-MPC) for 2003”.

The MEPS-MPC is a survey of hospitals, physicians and other medical providers. The purpose of this survey is to supplement and verify the information provided by respondent households participating in the household component of the MEPS (MEPS-HC) about their use of medical services in the United States.

With the permission of members of the households surveyed in the MEPS-HC, AHRQ contractor will contact the medical providers of the HC survey respondents to determine the actual dates of service, the diagnoses, the services provided, the amount that was charged, the amount that was paid and the sources of payment. Thus, the MPC is derived from or is based upon the core survey, MEPS-HC, and will improve the qualify of the core survey data.

The Medical Expenditure Panel Survey Household Component (MEPS-HC) conducted in 2003, will provide annual estimates, based upon a national representative sample, of health care use, expenditures, sources of payment and insurance coverage, for the U.S. civilian non-institutionalized population for 2003. Data from medical providers linked to household respondents in the MEPS Household component for calendar year 2003, will be collected beginning 2004 and continuing into the year 2005. MEPS is co-sponsored by the Agency for Healthcare Research and Quality (AHRQ) and the National Center for Health Statistics (NCHS).

Data Confidentiality Provisions

MEPS data confidentiality is protected under the AHRQ and NCHS Confidentiality statutes, section 308(d) and section 924(c) of the Public Health Service Act (42 U.S.C. 242m(d) and 42 U.S.C. 299c-3(c),respectively).

Methods of Collection

The Medical Provider Survey will be conducted predominantly by telephone, but may include self-administered mail surveys,if requested by the respondent. The MPC for Calendar year 2003 estimated annual burden is as follows:

Type of provider | Number of respondents | Average number of patients/provider | Number of patients/provider pairs | Average Number of events/patient | Average burden/event (in minutes) | Total hours of burden
MPC 2003:
Hospital Office-based | 5,095 | 2.2 | 11,210 | 3.2 | 5 | 2,977
Doctor | 16,031 | 1.3 | 20,840 | 3.5 | 5 | 6,054
Separately Billing doctor | 15,879 | 1.4 | 22,230 | 1.3 | 5 | 2,399
Home Health | 505 | 1.1 | 555 | 5.8 | 5 | 267
Pharmacy | 7,481 | 2.6 | 19,450 | 10.3 | 3 | 10,017
Total | 44,991 |  | 74,285 |  |  | 21,714

Request for Comments

In accordance with the above cited legislation, comments on the AHRQ information collection are requested with regard to any of the following:

(a) Whether the proposed collection of information is necessary for the proper performance of functions of AHRQ, including whether the information will have practical utility; (b) the accuracy of the AHRQ's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Dated: November 26, 2003.
Carolyn M. Clancy,
Director.

[FR Doc. 03-31198 Filed 12-16-03; 8:45 am]

BILLING CODE 4160-90-M